DEPARTMENT OF TRANSPORTATION

Federal Aviation Administration

14 CFR Part 73

[Airspace Docket No. 00-ANM-06]

RIN 2120-AA66

Change Using Agency for Restricted Area R-2602, Colorado Springs, CO

AGENCY: Federal Aviation Administration (FAA), DOT.

ACTION: Final rule.

SUMMARY: This action changes the name of the using agency for Restricted Area R-2602 (R-2602), from “USAF, Air Force Space Command, 2nd Space Wing, Falcon Air Force Base, CO,” to “USAF Space Command, 2nd Space Wing, Schriever Air Force Base, CO.” This is an administrative change that was initiated by the U.S. Air Force (USAF) to reflect the name change of Falcon Air Force Base (AFB), CO, to Schriever AFB, CO.

EFFECTIVE DATE: 0901 UTC, August 10, 2000.

FOR FURTHER INFORMATION CONTACT: Ken McElroy, Airspace and Rules Division, ATA-400, Office of Air Traffic Airspace Management, Federal Aviation Administration, 800 Independence Avenue, SW., Washington, DC 20591; telephone (202) 267-8783.

SUPPLEMENTARY INFORMATION:

Background

As a result of an Air Force decision to rename Falcon AFB, CO, to Schriever AFB, CO, the using agency for R-2602 is being changed from “USAF, Air Force Space Command, 2nd Space Wing, Falcon Air Force Base, CO,” to “USAF Space Command, 2nd Space Wing, Schriever Air Force Base, CO. The USAF requested this change to correct the current description for R-2602.

The Rule

This action amends 14 CFR part 73 by changing the name of the using agency for R-2602 from “U.S. Air Force Space Command, 2nd Space Wing, Falcon AFB, CO,” to “USAF Space Command, 2nd Space Wing, Schriever AFB, CO.” This administrative change will not alter the existing boundaries, altitudes, times of designation, or the activities conducted within the affected restricted area.

Therefore, since this action simply changes the using agency for the existing restricted area and does not involve a change in the dimensions or operating requirements of that airspace, notice and public procedure under 5 U.S.C 553(b) are unnecessary.

Section 73.26 of part 73 was republished in FAA Order 7400.8G, dated September 1, 1999.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This action is a minor administrative change amending the name of the using agency for an existing restricted area. There are no changes to air traffic control procedures or routes as a result of this action. Therefore, this action is not subject to environmental assessments and procedures under FAA Order 1050.1D, “Policies and Procedures for Considering Environmental Impacts,” and the National Environmental Policy Act of 1969.

List of Subjects in 14 CFR Part 73

Airspace, Navigation (air).

Adoption of the Amendment

In consideration of the foregoing, the Federal Aviation Administration amends 14 CFR part 73, as follows:

PART 73—SPECIAL USE AIRSPACE

1. The authority citation for 14 CFR part 73 continues to read as follows:

Authority: 49 U.S.C. 106(g), 40103, 40113, 40120; E.O. 10854, 24 FR 9565, 3 CFR, 1959-1963 Comp., p. 389.

§ 73.26 [Amended]

2. § 73.26 is amended as follows:

* * * * *

R-2602 Colorado Springs, CO [Amended]

By removing the words “Using agency. USAF, Air Force Space Command, 2nd Space Wing, Falcon AFB, CO,” and substituting the words “Using agency. USAF Space Command, 2nd Space Wing, Schriever AFB, CO.”

* * * * *

Issued in Washington, DC on May 18, 2000.
Reginald C. Matthews,
Manager, Airspace and Rules Division.

[FR Doc. 00-13748 Filed 6-1-00; 8:45 am]

BILLING CODE 4910-13-U